DEPARTMENT OF STATE

[Public Notice 10944]

Bureau of Educational and Cultural Affairs Evaluation Division Focus Group Discussions

ACTION: Notice of meetings.

SUMMARY: The Bureau of Educational and Cultural Affairs' (ECA) Evaluation Division invites current and potential award recipients to participate in an initiative aimed at refining ECA's Monitoring and Evaluation (M&E) system. The Division plans to host Focus Group Discussions (FGDs) designed to provide an opportunity for current and prospective ECA award recipients to offer input regarding program indicators and corresponding data collection questions as part of a broader effort to create a performance monitoring system that will provide reliable, easily-accessible data. For more detailed information on this initiative, please watch the following webinar: https://youtu.be/kzvHwXkmLJ8. Persons interested in attending a FGD must denote their interest by Friday, November 22nd using the following link: https://bit.ly/2MKUKQt. After the close of registration, the Division will reach out to schedule participation in the FGDs. Please note that if the Evaluation Division receives a significant level of interest, it may randomly select attendees—while those not selected will be provided a link to upload the information they would like to have considered.

FOR FURTHER INFORMATION CONTACT: Questions and requests for additional information regarding the FGDs or ECA's M&E initiative may be sent to Natalie Donahue, Chief of Evaluation, Bureau of Educational and Cultural Affairs at ecaevaluation@state.gov no later than Friday, November 22nd. The Evaluation Division will post responses to questions on its website (https://eca.state.gov/impact/eca-evaluation-division/learning) by Tuesday, December 3rd.

SUPPLEMENTARY INFORMATION:

Background: The Evaluation Division began development of an enhanced performance monitoring system to enable ECA leadership, program offices, and award recipients to better assess program performance and respond quickly to requests for information. The Evaluation Division would like to ascertain insights from current and potential award recipients as to what indicators should be considered, and any data collection questions that could be particularly useful in measuring the outcomes of exchange programs. Please note that participation in this initiative is voluntary and will not impact current awards or future selection or funding decisions. For those who would like to offer input for the initiative but do not register in time or are unable to attend a FGD, ideas for possible indicators and/or data collection questions may be submitted via email to ecaevaluation@state.gov through Friday, December 20th.

Aleisha Woodward,
Deputy Assistant Secretary for Policy, Bureau of Educational and Cultural Affairs, Department of State.

[FR Doc. 2019-25134 Filed 11-19-19; 8:45 am]

BILLING CODE 4710-05-P